ENVIRONMENTAL PROTECTION AGENCY

40 CFR Part 261

[RCRA—2003-0004; FRL-9092-6]

RIN 2050-AE51

Hazardous Waste Management System: Identification and Listing of Hazardous Waste: Conditional Exclusion From Hazardous Waste and Solid Waste for Solvent-Contaminated Industrial Wipes; Extension of Comment Period

AGENCY: Environmental Protection Agency.

ACTION: Data availability; extension of comment period.

SUMMARY: The Environmental Protection Agency (EPA) is extending the comment period for the document entitled “Conditional Exclusion from Hazardous and Solid Waste for Solvent-Contaminated Industrial Wipes,” which appeared in the Federal Register on October 27, 2009. The public comment period for this document was to close on December 28, 2009. The purpose of this document is to extend the comment period for 60 days until February 26, 2010.

DATES: EPA will accept public comments on the Notice of Data Availability (NODA) published October 27, 2009 (74 FR 55163), until February 26, 2010. Comments submitted after this date will be marked “late” and may not be considered.

ADDRESSES: Submit your comments, identified by Docket ID No. EPA-HQ-RCRA-2003-0004 by one of the following methods:

• http://www.regulations.gov: Follow the on-line instructions for submitting comments.

• E-mail: rcra-docket@epa.gov, Attention Docket No. EPA-HQ-RCRA-2003-0004.

• Fax: 202-566-9744, Attention Docket No. EPA-HQ-RCRA-2003-0004.

• Mail: Environmental Protection Agency, EPA Docket Center (EPA/DC), Resource Conservation and Recovery Act (RCRA) Docket, 2822T, 1200 Pennsylvania Avenue, NW., Washington, DC 20460, Attention Docket No. EPA-HQ-RCRA-2003-0004. Please include 2 copies.

• Hand Delivery: Public Reading Room, EPA West, Room 3334, 1301 Constitution Ave., NW., Washington, DC, Attention Docket No. EPA-HQ-RCRA-2003-0004. Such deliveries are only accepted during the docket's normal hours, and special arrangements should be made for deliveries of boxed information.

Instructions: Direct your comments to Docket ID No. EPA-HQ-RCRA-2003-0004. EPA's policy is that all comments received will be included in the public docket without change and may be made available online at http://www.regulations.gov, including any personal information provided, unless the comment includes information claimed to be Confidential Business Information (CBI) or other information whose disclosure is restricted by statute. Do not send information you consider CBI or that is otherwise protected through http://www.regulations.gov or e-mail. The http://www.regulations.gov Web site is an “anonymous access” system, which means EPA will not know your identity or contact information unless you provide it in the body of your comment. If you send an e-mail comment direct to EPA without going through http://www.regulations.gov, your e-mail address will be automatically captured and included as part of the comment that is placed in the public docket and made available on the Internet. If you send an electronic comment, EPA recommends that you include your name and other contact information in the body of your comment and with any disk or CD-ROM you send. If EPA cannot read your comment because of technical difficulties and cannot contact you for clarification, EPA may not be able to consider your comment. Electronic files should avoid the use of special characters, any form of encryption, and be free of any defects or viruses. For more information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Resource Conservation and Recovery Act (RCRA) Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the RCRA Docket is (202) 566-0270.

FOR FURTHER INFORMATION CONTACT: Teena Wooten, Office of Resource Conservation and Recovery (ORCR), (703) 308-8751, wooten.teena@epa.gov. Direct mail inquiries to the U.S. Environmental Protection Agency, Office of Resource Conservation and Recovery, (Mailstop 5304P), 1200 Pennsylvania Avenue, NW., Washington, DC 20460.

SUPPLEMENTARY INFORMATION: The subject of this notice is to extend the time to comment on a revised risk analysis for solvent contaminated wipes. The revised risk analysis was developed in support of a rule proposed on November 20, 2003 (68 FR 65586). The revised risk analysis and supporting documents are available through http://www.regulations.gov under docket EPA-HQ-RCRA-2003-0004 and http://www.epa.gov/epawaste/hazard/wastetypes/wasteid/solvents/wipes.htm.

On November 20, 2003, EPA proposed to: (1) Conditionally exclude from the definition of solid waste industrial wipes contaminated with solvent and sent to laundries or dry cleaners for cleaning and reuse and (2) conditionally exclude from the definition of hazardous waste industrial wipes contaminated with solvent and sent to disposal. The proposed rule is available through http://www.regulations.gov under docket EPA-HQ-RCRA-0004 and http://www.epa.gov/epawaste/hazard/wastetypes/wasteid/solvents/wipes.htm.

The comment period for the NODA was scheduled to close on December 28, 2009. However, EPA received a request to extend the comment period to allow the requester additional time to review the available information. In addition, EPA recently updated its contact list used to notify stakeholders when Federal Register notices about rulemaking activities in the areas of hazardous waste regulations are published. Extending the comment period responds to the commenter's request and allows recent additions to the contact list time to comment on the revised risk analysis. EPA has also received a request for the mathematical models and input/output files used to develop the revised risk analysis. Although this information is not necessary for review of the revised risk analysis, you may obtain a copy of the mathematical models and input/output files upon request through the contact listed above. EPA also notes that this rule is not subject to any statutory or judicial deadlines. We are therefore extending the comment period for this NODA until February 26, 2010.

Dated: December 9, 2009.
Matthew Hale,
Director, Office of Resource Conservation and Recovery.

[FR Doc. E9-29804 Filed 12-14-09; 8:45 am]

BILLING CODE 6560-50-P